DEPARTMENT OF STATE

[Public Notice 7444]

60-Day Notice of Proposed Information Collection: DS-7001 and DS-7005, DOS-Sponsored Academic Exchange Program Application, OMB Control Number 1405-0138

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: DOS-Sponsored Academic Exchange Program Application.

• OMB Control Number: 1405-0138.

• Type of Request: Extension of a Currently Approved Collection.

• Originating Office: Bureau of Educational and Cultural Affairs, ECA/A/E/EUR.

• Form Number: DS-7001, DS-7005.

• Respondents: Applicants for the Academic Exchange Program.

• Estimated Number of Respondents: 7160 (For DS-7001, 3842 estimated; for DS-7005, 3318 estimated).

• Estimated Number of Responses: 7160 (For DS-7001, 3842 estimated; for DS-7005, 3318 estimated).

• Average Hours per Response: 0.75.

• Total Estimated Burden: 5370 hours.

• Frequency: Annually.

• Obligation to Respond: Voluntary.

DATES: The Department will accept comments from the public up to 60 days from May 5, 2011.

ADDRESSES: You may submit comments by any of the following methods:

• E-mail: iovinems@state.gov.

• Mail (paper, disk, or CD-ROM submissions): Micaela S. Iovine, ECA/A/E/EUR, SA-5, Floor 4, Department of State, 2200 C St., NW, Washington, DC 20522-0504.

• Hand Delivery or Courier: Same as mailing address.

You must include the DS form number (if applicable), information collection title, and OMB control number in any correspondence.

FOR FURTHER INFORMATION CONTACT: Direct requests for additional information regarding the collection listed in this notice, including requests for copies of the proposed information collection and supporting documents, to Micaela S. Iovine, U.S. Department of State, Bureau of Educational and Cultural Affairs, Floor 4, 2200 C St., NW., Washington DC 20522-0504, who may be reached on 202-632-3256 or at iovinems@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The Department of State collects this information to identity qualified candidates for exchange activities sponsored by the Office of Academic Exchange Programs.

Methodology:

Applications are delivered physically to the offices of the grantees organization, submitted electronically, or through the mail.

Additional Information: None.

Dated: March 11, 2011.
Alina L. Romanowski,
Deputy Assistant Secretary for Academic Programs, Bureau of Educational and Cultural Affairs, Department of State.

[FR Doc. 2011-11006 Filed 5-4-11; 8:45 am]

BILLING CODE 4710-05-P